DEPARTMENT OF STATE

[Public Notice 4004]

Office of Defense Trade Controls; Notifications to the Congress of Proposed Commercial Export Licenses

AGENCY: Department of State.

ACTION: Notice.

SUMMARY: Notice is hereby given that the Department of State has forwarded the attached Notifications of Proposed Export Licenses to the Congress on the dates shown on the attachments pursuant to section 36(c) and 36(d) and in compliance with section 36(e) of the Arms Export Control Act (22 U.S.C. 2776).

EFFECTIVE DATE: As shown on each of the twenty-six letters.

FOR FURTHER INFORMATION CONTACT: Mr. William J. Lowell, Director, Office of Defense Trade Controls, Bureau of Political-Military Affairs, Department of State (202 663-2700).

SUPPLEMENTARY INFORMATION: Section 38(e) of the Arms Export Control Act mandates that notifications to the Congress pursuant to section 36(c) must be published in the Federal Register when they are transmitted to Congress or as soon thereafter as practicable.

Dated: April 23, 2002.
William J. Lowell,
Director, Office of Defense Trade Controls, Department of State.

United States Department of State

Washington, D.C. 20520, February 6, 2002.

The Honorable J. Dennis Hastert, Speaker of the House of Representatives.

Dear Mr. Speaker:

Pursuant to Section 36(c) of the Arms Export Control Act, I am transmitting, herewith, certification of a proposed license for the export of defense articles or defense services sold commercially under a contract in the amount of $50,000,000 or more.

The transaction contained in the attached certification involves the manufacture of S-61 helicopter spare and replacement parts in the United Kingdom, for end-use in the United Kingdom, Australia, Egypt, Germany, Belgium, Norway, Qatar and India.

The United States Government is prepared to license the export of these items having taken into account political, military, economic, human rights and arms control considerations.

More detailed information is contained in the formal certification which, though unclassified, contains business information submitted to the Department of State by the applicant, publication of which could cause competitive harm to the United States firm concerned.

Sincerely,

Paul V. Kelly,

Assistant Secretary, Legislative Affairs.

Enclosure: Transmittal No. DTC 128-01

United States Department of State

Washington, D.C. 20520, February 13, 2002.

The Honorable J. Dennis Hastert, Speaker of the House of Representatives.

Dear Mr. Speaker:

Pursuant to Section 36(c) of the Arms Export Control Act, I am transmitting herewith certification of a proposed license for the export of defense articles or defense services sold commercially under a contract in the amount of $50,000,000 or more.

The transaction described in the attached certification involves the hardware, technical data and defense services for four 60-meter Ambassador MKIII Fast Missile Craft for the Egyptian Navy.

The United States Government is prepared to license the export of these items having taken into account political, military, economic, human rights, and arms control considerations.

More detailed information is contained in the formal certification which, though unclassified, contains business information submitted to the Department of State by the applicant, publication of which could cause competitive harm to the United States firm concerned.

Sincerely,

Paul V. Kelly,

Assistant Secretary Legislative Affairs.

Enclosure: Transmittal No. DTC 116-01

United States Department of State

Washington, D.C. 20520, February 13, 2002.

The Honorable J. Dennis Hastert, Speaker of the House of Representatives.

Dear Mr. Speaker:

Pursuant to Section 36(d) of the Arms Export Control Act, I am transmitting, herewith, certification of a proposed manufacturing license agreement with Switzerland.

The transaction described in the attached certification involves the export to Switzerland of technical data, defense articles and assistance for the manufacture and assembly of the TOW 2A (Special) anti-armor missile for end-use by Switzerland and sale to Austria, Australia, Belgium, Canada, Denmark, Finland, France, Germany, Greece, Israel, Italy, Japan, Kuwait, Luxembourg, the Netherlands, Norway, Portugal, South Korea, Saudi Arabia, Spain, Sweden, Turkey and the United Kingdom.

The United States Government is prepared to license the export of these items having taken into account political, military, economic, human rights, and arms control considerations.

More detailed information is contained in the formal certification which, though unclassified, contains business information submitted to the Department of State by the applicant, publication of which could cause competitive harm to the United States firm concerned.

Sincerely,

Paul V. Kelly,

Assistant Secretary, Legislative Affairs.

Enclosure: Transmittal No. 140-01

United States Department of State

Washington, D.C. 20520, March 8, 2002.

The Honorable J. Dennis Hastert, Speaker of the House of Representatives.

Dear Mr. Speaker:

Pursuant to Section 36(c) of the Arms Export Control Act, I am transmitting, herewith, certification of a proposed license for the export of defense articles or defense services sold commercially under a contract in the amount of $50,000,000 or more.

The transaction contained in the attached certification involves the export of defense services for the maintenance, support and training of the Royal Saudi Air Force F-15 fleet through 2004.

The United States Government is prepared to license the export of these items having taken into account political, military, economic, human rights, and arms control considerations.

More detailed information is contained in the formal certification which, though unclassified, contains business information submitted to the Department of State by the applicant, publication of which could cause competitive harm to the United States firm concerned.

Sincerely,

Paul V. Kelly,

Assistant Secretary, Legislative Affairs.

Enclosure: Transmittal No. DTC 118-01

United States Department of State

Washington, D.C. 20520, March 8, 2002.

The Honorable J. Dennis Hastert, Speaker of the House of Representatives.

Dear Mr. Speaker:

Pursuant to Section 36(c) of the Arms Export Control Act, I am transmitting, herewith, certification of a proposed license for the export of defense articles or defense services sold commercially under a contract in the amount of $50,000,000 or more.

The transaction contained in the attached certification involves the export to Germany of technical data and defense services for the repair and overhaul of various aircraft auxiliary equipment on aircraft of NATO member countries, Egypt, Finland, Ireland, Kuwait, Jordan, Oman, Sweden, Nigeria, Malaysia, Saudi Arabia, Tunisia, Morocco, and Algeria.

The United States Government is prepared to license the export of these items having taken into account political, military, economic, human rights, and arms control considerations.

More detailed information is contained in the formal certification which, though unclassified, contains business information submitted to the Department of State by the applicant, publication of which could cause competitive harm to the United States firm concerned.

Sincerely,

Paul V. Kelly,

Assistant Secretary, Legislative Affairs.

Enclosure: Transmittal No. DTC 159-01

United States Department of State

Washington, D.C. 20520, March 8, 2002.

The Honorable J. Dennis Hastert, Speaker of the House of Representatives.

Dear Mr. Speaker:

Consistent with Section 36(c) of the Arms Export Control Act and Title IX of Public Law 106-79, I am transmitting, herewith, certification of a proposed license for the export of defense articles to India.

The President made a determination in a manner consistent with Title IX of the Department of Defense Appropriations Act, Fiscal Year 2000 (Public Law 106-79) to waive sanctions on India in connection with the Glenn Amendment and related provisions, as reported to you by separate letter. Under Title IX, the issuance of a license for the export of defense articles or defense services to India pursuant to the waiver authority of that Title is subject to the same requirements as are applicable to the export of items described in section 36(c) of the Arms Export Control Act, and the Administration is treating authorization for the requested re-export consistent with these provisions.

The transaction described in the attached certification involves the transfer of aircraft parts to be used on the United Kingdom supplied HAWK trainer aircraft.

The United States Government is prepared to authorize the export of these items having taken into account political, military, economic, human rights and arms control considerations.

More detailed information is contained in the formal certification which, though unclassified, contains business information submitted to the Department of State by the applicant, publication of which could cause competitive harm to the United States firm concerned.

Sincerely,

Paul V. Kelly,

Assistant Secretary, Legislative Affairs.

Enclosure: Transmittal No. DTC 165-01

United States Department of State

Washington, D.C. 20520, March 8, 2002.

The Honorable J. Dennis Hastert, Speaker of the House of Representatives.

Dear Mr. Speaker:

Consistent with Section 36(c) of the Arms Export Control Act and Title IX of Public Law 106-79, I am transmitting, herewith, certification of a proposed license for the export of defense articles to India.

The President made a determination in a manner consistent with Title IX of the Department of Defense Appropriations Act, Fiscal Year 2000 (Public Law 106-79) to waive sanctions on India in connection with the Glenn Amendment and related provisions, as reported to you by separate letter. Under Title IX, the issuance of a license for the export of defense articles or defense services to India pursuant to the waiver authority of that Title is subject to the same requirements as are applicable to the export of items described in section 36(c) of the Arms Export Control Act, and the Administration is treating authorization for the requested re-export consistent with these provisions.

The transaction described in the attached certification involves the transfer of sixty-six ram turbine engine systems for the United Kingdom supplied HAWK trainer aircraft.

The United States Government is prepared to authorize the export of these items having taken into account political, military, economic, human rights and arms control considerations.

More detailed information is contained in the formal certification which, though unclassified, contains business information submitted to the Department of State by the applicant, publication of which could cause competitive harm to the United States firm concerned.

Sincerely,

Paul V. Kelly,

Assistant Secretary, Legislative Affairs.

Enclosure: Transmittal No. DTC 166-01

United States Department of State

Washington, D.C. 20520 March 14, 2002.

The Honorable J. Dennis Hastert, Speaker of the House of Representatives.

Dear Mr. Speaker:

Pursuant to Section 9001(e) of Public Law 106-79 and consistent with Section 36(c) of the Arms Export Control Act, I am transmitting, herewith, certification of a proposed license for the export of defense articles to India.

The President made a determination in a manner consistent with Title IX of the Department of Defense Appropriations Act, Fiscal Year 2000 (Public Law 106-79) to waive sanctions on India in connection with the Glenn Amendment and related provisions, as reported to you by separate letter. Under Title IX, the issuance of a license for the export of defense articles or defense services to India pursuant to the waiver authority of that Title is subject to the same requirements as are applicable to the export of items described in Section 36(c) of the Arms Export Control Act, and the Administration is treating authorization for the requested re-export consistent with these provisions.

The transaction described in the attached certification involves the export of eighteen (18) Magnetrons to the Indian Army for use in the ground-based Reporter Radar.

The United States Government is prepared to authorize the export of these items having taken into account political, military, economic, human rights and arms control considerations.

More detailed information is contained in the formal certification which, though unclassified, contains business information submitted to the Department of State by the applicant, publication of which could cause competitive harm to the United States firm concerned.

Sincerely,

Paul V. Kelly,

Assistant Secretary, Legislative Affairs.

Enclosure: Transmittal No. DTC 175-01

United States Department of State

Washington, D.C. 20520 March 15, 2002.

The Honorable J. Dennis Hastert, Speaker of the House of Representatives.

Dear Mr. Speaker:

Pursuant to Section 9001(e) of Public Law 106-79 and consistent with Section 36(c) of the Arms Export Control Act, I am transmitting, herewith, certification of a proposed license for the export of defense articles to India.

The President made a determination in a manner consistent with Title IX of the Department of Defense Appropriations Act, Fiscal Year 2000 (Public Law 106-79) to waive sanctions on India in connection with the Glenn Amendment and related provisions, as reported to you by separate letter. Under Title IX, the issuance of a license for the export of defense articles or defense services to India pursuant to the waiver authority of that Title is subject to the same requirements as are applicable to the export of items described in Section 36(c) of the Arms Export Control Act, and the Administration is treating authorization for the requested re-export consistent with these provisions.

The transaction described in the attached certification involves export of twelve (12) single-channel rotary joints to the Indian Army for incorporation in the Flycatcher Air Defense System.

The United States Government is prepared to authorize the export of these items having taken into account political, military, economic, human rights and arms control considerations.

More detailed information is contained in the formal certification which, though unclassified, contains business information submitted to the Department of State by the applicant, publication of which could cause competitive harm to the United States firm concerned.

Sincerely,

Paul V. Kelly,

Assistant Secretary, Legislative Affairs.

Enclosure: Transmittal No. DTC 176-01

United States Department of State

Washington, D.C. 20520, March 15, 2002.

The Honorable J. Dennis Hastert, Speaker of the House of Representatives.

Dear Mr. Speaker:

Pursuant to Section 9001(e) of Public Law 106-79 and consistent with Section 36(c) of the Arms Export Control Act, I am transmitting, herewith, certification of a proposed license for the export of defense articles to India.

The President made a determination in a manner consistent with Title IX of the Department of Defense Appropriations Act, Fiscal Year 2000 (Public Law 106-79) to waive sanctions on India in connection with the Glenn Amendment and related provisions, as reported to you by separate letter. Under Title IX, the issuance of a license for the export of defense articles or defense services to India pursuant to the waiver authority of that Title is subject to the same requirements as are applicable to the export of items described in Section 36(c) of the Arms Export Control Act, and the Administration is treating authorization for the requested re-export consistent with these provisions.

The transaction described in the attached certification involves the export of unclassified technical data regarding upgrade of the L-159 Light Attack and Trainer Aircraft and its associated avionics sub-systems.

The United States Government is prepared to authorize the export of these items having taken into account political, military, economic, human rights and arms control considerations.

More detailed information is contained in the formal certification which, though unclassified, contains business information submitted to the Department of State by the applicant, publication of which could cause competitive harm to the United States firm concerned.

Sincerely,

Paul V. Kelly,

Assistant Secretary, Legislative Affairs.

Enclosure: Transmittal No. DTC 177-01

United States Department of State

Washington, D.C. 20520, March 15, 2002.

The Honorable J. Dennis Hastert, Speaker of the House of Representatives.

Dear Mr. Speaker:

Pursuant to Section 36(c) of the Arms Export Control Act, I am transmitting herewith certification of a proposed license for the export of defense articles or defense services sold commercially under a contract in the amount of $50,000,000 or more.

The transaction described in the attached certification involves the export of technical data and assistance associated with the launch of up to four Iridium commercial communications satellites from Russia.

The United States Government is prepared to license the export of these items having taken into account political, military, economic, human rights, and arms control considerations.

More detailed information is contained in the formal certification which, though unclassified, contains business information submitted to the Department of State by the applicant, publication of which could cause competitive harm to the United States firm concerned.

Sincerely,

Paul V. Kelly,

Assistant Secretary, Legislative Affairs.

Enclosure: Transmittal No. DTC 124-01

United States Department of State

Washington, D.C. 20520, March 15, 2002.

The Honorable J. Dennis Hastert, Speaker of the House of Representatives.

Dear Mr. Speaker:

Consistent with Section 36(c) of the Arms Export Control Act and Title IX of Public Law 106-79, I am transmitting, herewith, certification of a proposed license for the export of defense articles to India.

The President made a determination in a manner consistent with Title IX of the Department of Defense Appropriations Act, Fiscal Year 2000 (Public Law 106-79) to waive sanctions on India in connection with the Glenn Amendment and related provisions, as reported to you by separate letter. Under Title IX, the issuance of a license for the export of defense articles or defense services to India pursuant to the waiver authority of that Title is subject to the same requirements as are applicable to the export of items described in Section 36(c) of the Arms Export Control Act, and the Administration is treating authorization for the requested re-export consistent with these provisions.

The transaction described in the attached certification involves the transfer to India of unclassified technical data related to the Atlas IIAS, Atlas III, and/or Atlas V space launch vehicles for marketing, proposal and contract negotiations.

The United States Government is prepared to authorize the export of these items having taken into account political, military, economic, human rights and arms control considerations.

More detailed information is contained in the formal certification which, though unclassified, contains business information submitted to the Department of State by the applicant, publication of which could cause competitive harm to the United States firm concerned.

Sincerely,

Paul V. Kelly,

Assistant Secretary, Legislative Affairs.

Enclosure: Transmittal No. DTC 168-01

United States Department of State

Washington, D.C. 20520, March 18, 2002.

The Honorable Joseph R. Biden, Jr., Chairman, Committee on Foreign Relations, United States Senate.

Dear Mr. Chairman:

Pursuant to Section 36(c) of the Arms Export Control Act, I am transmitting, herewith, certification of a proposed license for the export of defense articles or defense services sold commercially under a contract in the amount of $50,000,000 or more.

The transaction contained in the attached certification involves the export to Japan of technical information data and defense services to provide logistics support for the AN/APY-2 radar used on the E-767 AWACS aircraft for end-use in Japan.

The United States Government is prepared to license the export of these items having taken into account political, military, economic, human rights and arms control considerations.

More detailed information is contained in the formal certification which, though unclassified, contains business information submitted to the Department of State by the applicant, publication of which could cause competitive harm to the United States firm concerned.

Sincerely,

Paul V. Kelly,

Assistant Secretary, Legislative Affairs.

Enclosure: Transmittal No. DTC 170-01

United States Department of State

Washington, D.C. 20520, March 21, 2002.

The Honorable J. Dennis Hastert, Speaker of the House of Representatives.

Dear Mr. Speaker:

Pursuant to Section 9001(e) of Public Law 106-79 and consistent with Section 36(c) of the Arms Export Control Act, I am transmitting, herewith, certification of a proposed license for the export of defense articles to India.

The President made a determination in a manner consistent with Title IX of the Department of Defense Appropriations Act, Fiscal Year 2000 (Public Law 106-79) to waive sanctions on India in connection with the Glenn Amendment and related provisions, as reported to you by separate letter. Under Title IX, the issuance of a license for the export of defense articles or defense services to India pursuant to the waiver authority of that Title is subject to the same requirements as are applicable to the export of items described in Section 36(c) of the Arms Export Control Act, and the Administration is treating authorization for the requested re-export consistent with these provisions.

The transaction described in the attached certification involves the amendment of an existing distribution agreement to reinstate India as part of the approved distribution territory for USML components used in the Pegasus, Adour, Orpheus and Gnome aircraft engines.

The United States Government is prepared to authorize the export of these items having taken into account political, military, economic, human rights and arms control considerations.

More detailed information is contained in the formal certification which, though unclassified, contains business information submitted to the Department of State by the applicant, publication of which could cause competitive harm to the United States firm concerned.

Sincerely,

Paul V. Kelly,

Assistant Secretary, Legislative Affairs.

Enclosure: Transmittal No. DTC 171-01

United States Department of State

Washington, D.C. 20520, March 21, 2002.

The Honorable J. Dennis Hastert, Speaker of the House of Representatives.

Dear Mr. Speaker:

Pursuant to Section 9001(e) of Public Law 106-79 and consistent with Section 36(c) of the Arms Export Control Act, I am transmitting, herewith, certification of a proposed license for the export of defense articles to India.

The President made a determination in a manner consistent with Title IX of the Department of Defense Appropriations Act, Fiscal Year 2000 (Public Law 106-79) to waive sanctions on India in connection with the Glenn Amendment and related provisions, as reported to you by separate letter. Under Title IX, the issuance of a license for the export of defense articles or defense services to India pursuant to the waiver authority of that Title is subject to the same requirements as are applicable to the export of items described in Section 36(c) of the Arms Export Control Act, and the Administration is treating authorization for the requested re-export consistent with these provisions.

The transaction described in the attached certification involves temporary export of two (2) subsea HAMMERHEAD Remote Operating Vehicles (ROV) containing the Kearfott KN-5053 Seaborne Navigation System (SEANAV).

The United States Government is prepared to authorize the export of these items having taken into account political, military, economic, human rights and arms control considerations.

More detailed information is contained in the formal certification which, though unclassified, contains business information submitted to the Department of State by the applicant, publication of which could cause competitive harm to the United States firm concerned.

Sincerely,

Paul V. Kelly,

Assistant Secretary, Legislative Affairs.

Enclosure: Transmittal No. DTC 173-01

United States Department of State

Washington, D.C. 20520, March 21, 2002.

The Honorable J. Dennis Hastert, Speaker of the House of Representatives.

Dear Mr. Speaker:

Consistent with Section 36(c) of the Arms Export Control Act and Title IX of Public Law 106-79, I am transmitting, herewith, certification of a proposed license for the export of defense articles to India.

The President made a determination in a manner consistent with Title IX of the Department of Defense Appropriations Act, Fiscal Year 2000 (Public Law 106-79) to waive sanctions on India in connection with the Glenn Amendment and related provisions, as reported to you by separate letter. Under Title IX, the issuance of a license for the export of defense articles or defense services to India pursuant to the waiver authority of that Title is subject to the same requirements as are applicable to the export of items described in Section 36(c) of the Arms Export Control Act, and the Administration is treating authorization for the requested re-export consistent with these provisions.

The transaction described in the attached certification involves the transfer of: (1) technical assistance agreement in the use of GE F404-F2J3 engines in the Indian Light Combat Aircraft Program; (2) temporary export of explosives and narcotics trace equipment for demonstration to various Indian Government security agencies; (3) unclassified marketing data to define system concepts and procurement requirements for a submarine integrated combat system to the Indian Ministry of Defense; (4) Mercury Cadmium Telluride (MCT) infrared detectors for the METSAT meteorological earth observation satellite to the Indian Department of Space, ISRO Satellite Center; (5) ten (10) Finger Rings for the repair and maintenance of Kiran Aircraft to Hindustan Aeronautics, Ltd.; (6) two (2) DC/DC converters for use in development of breadboard modules for a meteorological satellite payload to the Indian Department of Space, Space Applications Center; (7) five hundred forty (540) electrical motors for hand-held thermal imaging devices to the Indian Army.

The United States Government is prepared to authorize the export of these items having taken into account political, military, economic, human rights and arms control considerations.

More detailed information is contained in the formal certification which, though unclassified, contains business information submitted to the Department of State by the applicant, publication of which could cause competitive harm to the United States firm concerned.

Sincerely,

Paul V. Kelly,

Assistant Secretary, Legislative Affairs.

Enclosure: Transmittal No. DTC 01-02

United States Department of State

Washington, D.C. 20520, April 2, 2002.

The Honorable J. Dennis Hastert, Speaker of the House of Representatives.

Dear Mr. Speaker:

Pursuant to Section 36(c) of the Arms Export Control Act, I am transmitting, herewith, certification of a proposed license for the export of defense articles or defense services sold commercially under a contract in the amount of $50,000,000 or more.

The transaction contained in the attached certification involves the export of technical data, defense services and defense articles to Egypt for the upgrade of the Egyptian Air Force's C-130 and other transport aircraft.

The United States Government is prepared to license the export of these items having taken into account political, military, economic, human rights, and arms control considerations.

More detailed information is contained in the formal certification which, though unclassified, contains business information submitted to the Department of State by the applicant, publication of which could cause competitive harm to the United States firm concerned.

Sincerely,

Paul V. Kelly,

Assistant Secretary, Legislative Affairs.

Enclosure: Transmittal No. DTC 46-02

United States Department of State

Washington, D.C. 20520, April 12, 2002.

The Honorable J. Dennis Hastert, Speaker of the House of Representatives.

Dear Mr. Speaker:

Pursuant to Section 36(c) of the Arms Export Control Act, I am transmitting, herewith, certification of a proposed license for the export of defense articles or defense services sold commercially under a contract in the amount of $50,000,000 or more.

The transaction contained in the attached certification involves the export of technical data, defense services and defense articles to Israel for the development of the Vehicle Launched Scatterable Anti-Tank System.

The United States Government is prepared to license the export of these items having taken into account political, military, economic, human rights, and arms control considerations.

More detailed information is contained in the formal certification which, though unclassified, contains business information submitted to the Department of State by the applicant, publication of which could cause competitive harm to the United States firm concerned.

Sincerely,

Paul V. Kelly,

Assistant Secretary, Legislative Affairs.

Enclosure: Transmittal No. DTC 056-01

United States Department of State

Washington, D.C. 20520, April 12, 2002.

The Honorable J. Dennis Hastert, Speaker of the House of Representatives.

Dear Mr. Speaker:

Pursuant to Section 36(c) of the Arms Export Control Act, I am transmitting, herewith, certification of a proposed license for the export of defense articles or defense services sold commercially under a contract in the amount of $50,000,000 or more.

The transaction contained in the attached certification involves the sale to Japan of the Superbird-6 commercial communications satellite and its launch from the United States.

The United States Government is prepared to license the export of these items having taken into account political, military, economic, human rights, and arms control considerations.

More detailed information is contained in the formal certification which, though unclassified, contains business information submitted to the Department of State by the applicant, publication of which could cause competitive harm to the United States firm concerned.

Sincerely,

Paul V. Kelly,

Assistant Secretary, Legislative Affairs.

Enclosure: Transmittal No. DTC 017-02

United States Department of State

Washington, D.C. 20520, April 12, 2002.

The Honorable J. Dennis Hastert, Speaker of the House of Representatives.

Dear Mr. Speaker:

Pursuant to Section 36(d) of the Arms Export Control Act, I am transmitting, herewith certification of a proposed manufacturing license agreement with Japan.

The transaction described in the attached certification involves the transfer of technical data and assistance in the manufacture of 2.75 inch MK-66 Mod 1 Rocket Motors and M261/M267 Submunition Warheads. The rocket motors and submunition warheads will be for end-use in Japan.

The United States Government is prepared to license the export of these items having taken into account political, military, economic, human rights, and arms control considerations.

More detailed information is contained in the formal certification which, though unclassified, contains business information submitted to the Department of State by the applicant, publication of which could cause competitive harm to the United States firm concerned.

Sincerely,

Paul V. Kelly,

Assistant Secretary, Legislative Affairs.

Enclosure: Transmittal No. 027-02

United States Department of State

Washington, D.C. 20520, April 12, 2002.

The Honorable Henry J. Hyde, Chairman, Committee on International Relations, House of Representatives.

Dear Mr. Chairman:

Pursuant to Section 36(c) of the Arms Export Control Act, I am transmitting, herewith, certification of a proposed license for the export of defense articles or defense services sold commercially under a contract in the amount of $50,000,000 or more.

The transaction contained in the attached certification involves the export of Vertical Launch Anti-Submarine Rocket (VLA) components to Japan for assembly and end use by Japan.

The United States Government is prepared to license the export of these items having taken into account political, military, economic, human rights, and arms control considerations.

More detailed information is contained in the formal certification which, though unclassified, contains business information submitted to the Department of State by the applicant, publication of which could cause competitive harm to the United States firm concerned.

Sincerely,

Paul V. Kelly,

Assistant Secretary, Legislative Affairs.

Enclosure: Transmittal No. DTC 028-02

United States Department of State

Washington, D.C. 20520, April 12, 2002.

The Honorable J. Dennis Hastert, Speaker of the House of Representatives.

Dear Mr. Speaker:

Pursuant to Section 36(c) of the Arms Export Control Act, I am transmitting, herewith, certification of a proposed license for the export of defense articles or defense services sold commercially under a contract in the amount of $50,000,000 or more.

The transaction contained in the attached certification involves the export to Turkey of technical data, defense services and defense articles for the manufacture of the X1100 transmission for use in various armored vehicles of the Turkish Land Forces.

The United States Government is prepared to license the export of these items having taken into account political, military, economic, human rights, and arms control considerations.

More detailed information is contained in the formal certification which, though unclassified, contains business information submitted to the Department of State by the applicant, publication of which could cause competitive harm to the United States firm concerned.

Sincerely,

Paul V. Kelly,

Assistant Secretary, Legislative Affairs.

Enclosure: Transmittal No. DTC 029-02

United States Department of State

Washington, D.C. 20520, April 12, 2002.

The Honorable J. Dennis Hastert, Speaker of the House of Representatives.

Dear Mr. Speaker:

Pursuant to Section 36(c) of the Arms Export Control Act, I am transmitting, herewith, certification of a proposed license for the export of defense articles or defense services sold commercially under a contract in the amount of $50,000,000 or more.

The transaction contained in the attached certification involves the export to Japan of technical data, defense services and defense articles for the manufacture of Aircraft Fuel Control Devices for end-use by Japan.

The United States Government is prepared to license the export of these items having taken into account political, military, economic, human rights, and arms control considerations.

More detailed information is contained in the formal certification which, though unclassified, contains business information submitted to the Department of State by the applicant, publication of which could cause competitive harm to the United States firm concerned.

Sincerely,

Paul V. Kelly,

Assistant Secretary, Legislative Affairs.

Enclosure: Transmittal No. DTC 032-02

United States Department of State

Washington, D.C. 20520, April 15, 2002.

The Honorable J. Dennis Hastert, Speaker of the House of Representatives.

Dear Mr. Speaker:

Pursuant to Section 36(c) of the Arms Export Control Act, I am transmitting, herewith, certification of a proposed license for the export of defense articles or defense services sold commercially under a contract in the amount of $50,000,000 or more.

The transaction described in the attached certification involves the temporary export of one (1) EchoStar IX commercial satellite for launch into geosynchronous orbit from international waters by Sea Launch.

The United States Government is prepared to license the export of these items having taken into account political, military, economic, human rights, and arms control considerations.

More detailed information is contained in the formal certification which, though unclassified, contains business information submitted to the Department of State by the applicant, publication of which could cause competitive harm to the United States firm concerned.

Sincerely,

Paul V. Kelly,

Assistant Secretary, Legislative Affairs.

Enclosure: Transmittal No. DTC 013-02

United States Department of State

Washington, D.C. 20520, April 15 2002.

The Honorable J. Dennis Hastert, Speaker of the House of Representatives.

Dear Mr. Speaker:

Pursuant to Section 36(c) of the Arms Export Control Act, I am transmitting, herewith, certification of a proposed license for the export to Japan, France and Canada of defense articles or defense services sold commercially under a contract in the amount of $50,000,000 or more.

The transaction contained in the attached certification involves the export of technical data and assistance for the BSAT-2c commercial communications satellite for launch from French Guiana.

The United States Government is prepared to license the export of these items having taken into account political, military, economic, human rights, and arms control considerations.

More detailed information is contained in the formal certification which, though unclassified, contains business information submitted to the Department of State by the applicant, publication of which could cause competitive harm to the United States firm concerned.

Sincerely,

Paul V. Kelly,

Assistant Secretary, Legislative Affairs.

Enclosure: Transmittal No. DTC 015-02

United States Department of State

Washington, D.C. 20520, April 15, 2002.

The Honorable J. Dennis Hastert, Speaker of the House of Representatives.

Dear Mr. Speaker:

Pursuant to Section 36(c) and (d) of the Arms Export Control Act, I am transmitting, herewith, certification of a proposed Technical Assistance Agreement with Bulgaria.

The transaction described in the attached certification involves the transfer of naval architectural and marine engineering services to Bulgaria for the basic and detailed development of a multi-mission corvette to the Bulgarian Ministry of Defense.

The United States Government is prepared to license the export of these items having taken into account political, military, economic, human rights, and arms control considerations.

More detailed information is contained in the formal certification which, though unclassified, contains business information submitted to the Department of State by the applicant, publication of which could cause competitive harm to the United States firm concerned.

Sincerely,

Paul V. Kelly,

Assistant Secretary, Legislative Affairs.

Enclosure: Transmittal No. DTC 034-02

[FR Doc. 02-11021 Filed 5-2-02; 8:45 am]

BILLING CODE 4710-25-P